DEPARTMENT OF THE TREASURY

Submission for OMB Review; Comment Request

August 16, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 24, 2001 to be assured of consideration.

Internal Revenue Service

OMB Number: 1545-0074.

Form Number: IRS Form 1040 and Schedules A, B, C, C-EZ, D, D-1, E, EIC, F, H, J, R, and SE.

Type of Review: Revision.

Title: U.S. Individual Income Tax Return.

Description: Form 1040 and schedules are used by individuals to report their income tax liability. The data is used to verify that the items reported on the forms are correct, and also for general statistical use.

Respondents: Individuals or households.

Estimated Number of Respondents/Recordkeepers: 71,097,253.

Estimated Burden Hours Per Respondent/Recordkeeper:

Form/Schedule | Recordkeeper | Learning about the law or the form | Preparing the form | Copying, assembling, and sending the form
Form 1010 | 2 hr., 46 min | 3 hr., 29 min | 4 hr., 1 min | 34 min.
Schedule A | 3 hr., 4 min | 39 min | 1 hr., 34 min | 20 min.
Schedule B | 33 min | 8 min | 25 min | 20 min.
Schedule C | 6 hr., 4 min | 1 hr., 31 min | 2 hr., 19 min | 41 min.
Schedule C-EZ | 45 min | 3 min | 35 min | 20 min.
Schedule D | 1 hr., 29 min | 2 hr., 59 min | 2 hr., 34 min | 34 min.
Schedule D-1 | 13 min | 1 min | 11 min | 34 min.
Schedule E | 3 hr., 0 min | 1 hr., 0 min | 1 hr., 24 min | 34 min.
Schedule EIC |  | 1 min | 13 min | 20 min
Schedule F:
Cash Method | 3 hr., 29 min | 36 min | 1 hr., 27 min | 20 min.
Accrual Method | 3 hr., 36 min | 26 min | 1 hr., 25 min | 20 min.
Schedule H | 1 hr., 38 min | 30 min | 53 min | 34 min.
Schedule J | 19 min | 11 min | 1 hr., 32 min | 20 min.
Schedule R | 19 min | 15 min | 30 min | 34 min.
Schedule SE:
Short | 13 min | 14 min | 12 min | 13 min.
Long | 26 min | 20 min | 33 min | 20 min.

Frequency of Response: Annually.

Estimated Total Reporting/Recordkeeping Burden: 1,454,784,038 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports, Management Officer.

[FR Doc. 01-21365 Filed 8-23-01; 8:45 am]

BILLING CODE 4830-01-P